DEPARTMENT OF HOUSING AND URBAN DEVELOPMENT

[Docket No. FR-5916-N-16]

60-Day Notice of Proposed Information Collection: Public Housing Capital Fund Program

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 14, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in section A.

A. Overview of Information Collection

Title of Information Collection: Public Housing Capital Fund Program.

OMB Approval Number: 2577-0157.

Type of Request: Extension of currently approved collection.

Form Numbers: HUD Form 50075.1—Annual Statement/Performance and Evaluation Report and HUD-50075.2—Capital Fund Program Five-Year Action Plan, HUD-5084, HUD-5087, HUD-51000, HUD-51001, HUD-51002, HUD-51003, HUD-51004, HUD-51915, HUD-51915-A, HUD-51971-I-II, HUD-52396, HUD-52427, HUD-52482, HUD-52483-A, HUD-52484, HUD-52485, HUD-52651-A, HUD-52829, HUD-52830, HUD-52833, HUD-52845, HUD-52846, HUD-52847, HUD-52849, HUD-53001, HUD-53015, HUD-5370, HUD-5370EZ, HUD-5370C, HUD-5372, HUD-5378, HUD-5460, HUD-52828, 50071, 5370-C1, 5370-C2.

Description of the need for the information and proposed use: Each year Congress appropriates funds to approximately 3,100 Public Housing Authorities (PHAs) for modernization, development, financing, and management improvements. The funds are allocated based on a complex formula. The forms in this collection are used to appropriately disburse and utilize the funds provided to PHAs. Additionally, these forms provide the information necessary to approve a financing transaction in addition to any Capital Fund Financing transactions. Respondents include the approximately 3,100 PHA receiving Capital Funds and any other PHAs wishing to pursue financing.

Respondents (i.e., affected public): Public Housing Authorities.

Information collection | Number of respondents | Frequency of response | Responses per annum | Burden hour per response | Annual burden hours | Hourly cost per response | Annual cost
HUD-5084 | 3,100 | 1 | 3,100 | 1.5 | 4,650 | $30 | $139,500
HUD-5087 | 50 | 1 | 50 | 3 | 150 | 50 | 7,500
HUD-50071 | 10 | 1 | 10 | 0.5 | 5 | 50 | 250
HUD-50075.1 | 3,100 | 1 | 3,100 | 2.2 | 6,820 | 30 | 204,600
HUD-50075.2 | 3,100 | 1 | 3,100 | 1 | 3,100 | 30 | 93,000
HUD-51000 | 590 | 1 | 590 | 1 | 590 | 30 | 17,700
HUD-51001 | 2,550 | 12 | 30,600 | 3.5 | 107,100 | 30 | 2,998,800
HUD-51002 | 1,600 | 5 | 8,000 | 1 | 8,000 | 30 | 240,000
HUD-51003 | 500 | 2 | 1,000 | 1.5 | 1,500 | 30 | 45,000
HUD-51004 | 500 | 2 | 1,000 | 2.5 | 2,500 | 30 | 75,000
HUD-51915/51915-A | 2,630 | 1 | 2,630 | 3 | 7,890 | 30 | 236,700
HUD-51971-I, II | 80 | 1 | 80 | 1.5 | 120 | 30 | 3,600
HUD-52396 | 96 | 1 | 96 | 2 | 192 | 30 | 5,760
HUD-52427 | 88 | 1 | 88 | 0.5 | 44 | 30 | 1,320
HUD-52482 | 40 | 1 | 40 | 2 | 80 | 30 | 2,400
HUD-52483-A | 40 | 1 | 40 | 2 | 80 | 30 | 2,400
HUD-52484 | 532 | 4 | 2,128 | 10 | 21,280 | 30 | 638,400
HUD-52485 | 40 | 1 | 40 | 1 | 40 | 30 | 1,200
HUD-52651-A | 40 | 1 | 40 | 2.5 | 100 | 30 | 3,000
HUD-52829 | 25 | 1 | 25 | 40 | 1000 | 50 | 50,000
HUD-52830 | 25 | 1 | 25 | 16 | 400 | 50 | 20,000
HUD-52833 | 3,100 | 1 | 3,100 | 13 | 40,300 | 30 | 1,209,000
HUD-52836 | 10 | 1 | 10 | 0.5 | 5 | 50 | 250
HUD-52845 | 25 | 1 | 25 | 8 | 200 | 50 | 10,000
HUD-52846 | 25 | 1 | 25 | 16 | 400 | 50 | 20,000
HUD-52847 | 25 | 1 | 25 | 8 | 200 | 50 | 10,000
HUD-52849 | 25 | 1 | 25 | 1 | 25 | 50 | 1,250
HUD-53001 | 3,100 | 1 | 3,100 | 2.5 | 7,750 | 30 | 232,500
HUD-53015 | 40 | 1 | 40 | 3 | 120 | 30 | 3,600
HUD-5370, 5370EZ | 2,694 | 1 | 2,694 | 1 | 2,694 | 30 | 80,820
HUD-5370C | 2,694 | 1 | 2,694 | 1 | 2,694 | 30 | 80,820
HUD-5372 | 590 | 1 | 590 | 1 | 590 | 30 | 17,700
HUD-5378 | 158 | 24 | 3,792 | 0.25 | 948 | 30 | 28,440
HUD-5460 | 40 | 1 | 40 | 1 | 40 | 30 | 1,200
Public Housing Information Center Certification of Accuracy | 3,100 | 1 | 3,100 | 2 | 6,200 | 30 | 186,000
HUD-52828 Physical Needs Assessment form 3,100 Broadband Feasibility determination | 3,100 | 1 | 3,100 | 15.4 | 47,740 | 50 | 2,387,000
Broadband Feasibility determination | 3,100 | 1 | 3,100 | 10 | 31,000 | 50 | 1,550,000
Total | 3,100 | 1 | 3,100 | 98.9 | 306,537 | 35 | 10,604,710

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. chapter 35.

Dated: September 7, 2016.
Danielle Bastarache,
Deputy Assistant Secretary, Office of Policy, Programs and Legislative Initiatives.

[FR Doc. 2016-22088 Filed 9-13-16; 8:45 am]

BILLING CODE 4210-67-P